DEPARTMENT OF TRANSPORTATION

Federal Aviation Administration

14 CFR Part 39

[Docket No. FAA-2014-0284; Directorate Identifier 2014-NM-011-AD; Amendment 39-18125; AD 2015-06-07]

RIN 2120-AA64

Airworthiness Directives; The Boeing Company Airplanes

AGENCY: Federal Aviation Administration (FAA), DOT.

ACTION: Final rule.

SUMMARY: We are adopting a new airworthiness directive (AD) for certain The Boeing Company Model 737-100, 737-200, 737-200C, 737-300, 737-400, and 737-500 series airplanes. This AD was prompted by reports of cracking in the lower corners of the forward entry doorway and the upper corners of the airstairs cutout. This AD requires inspections for cracking of the forward entry doorway and airstairs cutout, and corrective actions if necessary. This AD also provides terminating action for the repetitive inspections. We are issuing this AD to detect and correct cracks in the lower corners of the forward entry door cutout and the upper corners of the airstairs cutout, which could progress and result in an inability to maintain cabin pressurization.

DATES: This AD is effective May 4, 2015.

The Director of the Federal Register approved the incorporation by reference of a certain publication listed in this AD as of May 4, 2015.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2014-0284.

Examining the AD Docket

You may examine the AD docket on the Internet at http://www.regulations.gov by searching for and locating Docket No. FAA-2014-0284; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Nenita Odesa, Aerospace Engineer, Airframe Branch, ANM-120L, FAA, Los Angeles Aircraft Certification Office, 3960 Paramount Boulevard, Lakewood, CA 90712-4137; phone: 562-627-5234; fax: 562-627-5210; email: nenita.odesa@faa.gov.

SUPPLEMENTARY INFORMATION:

Discussion

We issued a notice of proposed rulemaking (NPRM) to amend 14 CFR part 39 by adding an AD that would apply to certain The Boeing Company Model 737-100, 737-200, 737-200C, 737-300, 737-400, and 737-500 series airplanes. The NPRM published in the Federal Register on May 28, 2014 (79 FR 30500). The NPRM was prompted by reports of cracking in the lower corners of the forward entry doorway and the upper corners of the airstairs cutout. The NPRM proposed to require inspections for cracking of the forward entry doorway and airstairs cutout, and corrective actions if necessary. The NPRM also proposed to provide terminating action for the repetitive inspections. We are issuing this AD to detect and correct cracks in the lower corners of the forward entry door cutout and the upper corners of the airstairs cutout, which could progress and result in an inability to maintain cabin pressurization.

Comments

We gave the public the opportunity to participate in developing this AD. The following presents the comments received on the NPRM (79 FR 30500, May 28, 2014) and the FAA's response to each comment.

Effect of Winglets on Accomplishment of the Proposed Actions

Aviation Partners Boeing stated that accomplishing the installation of winglets per supplemental type certificate (STC) ST01219SE (http://rgl.faa.gov/Regulatory_and_Guidance_Library/rgstc.nsf/0/082838ee177dbf62862576a4005cdfc0/$FILE/ST01219SE.pdf) does not affect the actions specified in the NPRM (79 FR 30500, May 28, 2014).

We concur with the commenter. We have redesignated paragraph (c) of the proposed AD (79 FR 30500, May 28, 2014) as paragraph (c)(1) in this AD and added new paragraph (c)(2) to this AD to state that installation of STC ST01219SE (http://rgl.faa.gov/Regulatory_and_Guidance_Library/rgstc.nsf/0/082838ee177dbf62862576a4005cdfc0/$FILE/ST01219SE.pdf) does not affect the ability to accomplish the actions required by this final rule. Therefore, for airplanes on which STC ST01219SE is installed, a “change in product” alternative method of compliance (AMOC) approval request is not necessary to comply with the requirements of 14 CFR 39.17.

Request to Clarify That Certain Inspections Are Not Required for Areas With Existing Repairs

Southwest Airlines (SWA) requested that the NPRM (79 FR 30500, May 28, 2014) be revised to clarify that the initial and repetitive inspections specified in paragraph (g)(1) of the proposed AD would not be required for locations that are common to existing repairs that were installed using the Boeing Model 737 structural repair manual (SRM) repairs identified in Part 3, “Permanent Repair,” of Paragraph 3.B., “Work Instructions,” of the Accomplishment Instructions of Boeing Special Attention Service Bulletin 737-53-1083, Revision 4, dated December 18, 2013. As an alternative to this clarification, SWA suggested that guidance be provided on how to address the existing repairs since the inspections proposed in paragraph (g)(1) of the proposed AD cannot be accomplished in the repaired areas.

SWA observed that the applicability blocks in Repair 12 and Repair 13 of Boeing 737-300/400/500 SRM 53-10-01 state that the inspections identified in Boeing Special Attention Service Bulletin 737-53-1083, Revision 4, dated December 18, 2013, are not necessary for the repaired areas.

We agree that the inspections required by paragraph (g)(1) of this AD cannot be accomplished at locations where certain repairs have been installed. We have added a new paragraph (g)(3) to this AD and redesignated the subsequent paragraph as (g)(4). Paragraph (g)(3) of this AD clarifies that accomplishment of a permanent repair terminates the repetitive inspections required by paragraph (g)(1) of this AD for the repaired area only.

Request for Alternative Inspection Methods

SWA requested that the NPRM (79 FR 30500, May 28, 2014) be revised to provide operators the option to request alternative inspection instructions from Boeing for areas with existing repairs that were approved by a Boeing Authorized Representative (AR). The inspections proposed in paragraph (g)(1) of the NPRM cannot be accomplished in areas with existing repairs.

We do not agree to revise this AD to include a provision to provide operators the option to request alternative inspection instructions from Boeing. If there are existing repairs that were approved by a Boeing AR, and those existing repairs prevent accomplishment of the inspections required by paragraph (g)(1) of this AD, 14 CFR 39.17 of the Federal Aviation Regulations requires an affected operator to obtain an AMOC from the FAA. Upon publication of this AD, the Manager of the Los Angeles Aircraft Certification Office will consider granting AMOC authority for this AD to the Boeing Commercial Airplanes Organization Designation Authorization (ODA).

Request To Clarify That Inspections Are Not Required for Previously Repaired Areas

Boeing requested that paragraph (g)(2) of the NPRM (79 FR 30500, May 28, 2014) be revised to specify that the inspections required by paragraph (g)(1) of the NPRM are not required for Groups 1 and 2 airplanes that have been repaired using the service information identified in paragraph (g)(2)(i), (g)(2)(ii), or (g)(2)(iii) of the NPRM. Boeing noted that, as currently written, paragraph (g)(2) of the NPRM would not require inspection of the unrepaired lower entry door and upper airstair corners and would contradict the inspections in the service information, which could lead to an unsafe condition. Boeing also pointed out that the inspection zones specified in the following service information do not include the repaired area(s).

• Boeing Service Bulletin 737-531083, Revision 1, dated October 25, 1985.

• Boeing Service Bulletin 737-531083, Revision 2, dated March 17, 1988.

• Boeing Service Bulletin 737-531083, Revision 3, dated December 7, 1989.

For the reasons provided by the commenter we agree to revise paragraph (g)(2) of this AD to specify that “[T]he inspections required by paragraph (g)(1) of this AD are not required in the repaired area.”

Request To Specify Inspection Locations

Boeing requested that paragraph (g)(1) of the NPRM (79 FR 30500, May 28, 2014) be revised to specify the locations that need to be inspected. The commenter stated that, as currently written, the inspection methods are specified but not the inspection locations. Boeing Special Attention Service Bulletin 737-53-1083, Revision 4, dated December 18, 2013, provides different inspection methods based on the location of the inspection. Boeing suggested that the revision to paragraph (g)(1) state “[D]o the inspections specified in paragraphs (g)(1)(i), (g)(1)(ii), (g)(1)(iii), and (g)(1)(iv) of this AD and in accordance with Part 1 of the Accomplishment Instructions of Boeing Special Attention Service Bulletin 737-53-1083, Revision 4. . . .”

We do not agree it is necessary to specify inspection locations because paragraph (g)(1) of this AD already requires operators to do the inspections in accordance with Part 1 of the Accomplishment Instructions of Boeing Special Attention Service Bulletin 737-53-1083, Revision 5, dated July 22, 2014. These accomplishment instructions include the specific inspection methods and the inspection locations. No change has been made to this AD in this regard.

Request To Refer to Revised Service Information

ANA and Europe Airpost requested that the material in Boeing Information Notice 737-53-1083 R04 IN 03 to Boeing Alert Service Bulletin 737-53-1083 be included in the final rule. The commenters noted that, based on the material in Boeing Information Notice 737-53-1083 R04 IN 03 to Boeing Service Bulletin 737-53-1083, the inspection of the skin doubler required by paragraph (g)(1)(iii) of the NPRM (79 FR 30500, May 28, 2014) would no longer be applicable to Group 4 airplanes. The commenters explained that Boeing Special Attention Service Bulletin 737-53-1083, Revision 5, dated July 22, 2014, would incorporate the material in Boeing Information Notice 737-53-1083 R04 IN 03. The commenters pointed out that operators might have to request AMOCs from the FAA if the final rule did not include this material and was issued prior to Boeing's release of Boeing Special Attention Service Bulletin 737-53-1083, Revision 5, dated July 22, 2014.

We agree that the material in Information Notice 737-53-1083 R04 IN 03 to Boeing Service Bulletin 737-53-1083 is incorporated in Boeing Special Attention Service Bulletin 737-53-1083, Revision 5, dated July 22, 2014. Since the NPRM (79 FR 30500, May 28, 2014) was published, Boeing has issued and we have reviewed Special Attention Service Bulletin 737-53-1083, Revision 5, dated July 22, 2014. We have revised this AD to include Boeing Special Attention Service Bulletin 737-53-1083, Revision 5, dated July 22, 2014, as an additional source of service information. We have also included a new paragraph (k) in this AD, and redesignated the subsequent paragraphs accordingly, to provide credit for accomplishment of certain actions before the effective date of this AD using Boeing Special Attention Service Bulletin 737-53-1083, Revision 4, dated December 18, 2013.

Conclusion

We reviewed the relevant data, considered the comments received, and determined that air safety and the public interest require adopting this AD with the changes described previously and minor editorial changes. We have determined that these minor changes:

• Αre consistent with the intent that was proposed in the NPRM (79 FR 30500, May 28, 2014) for correcting the unsafe condition; and

• Do not add any additional burden upon the public than was already proposed in the NPRM (79 FR 30500, May 28, 2014).

We also determined that these changes will not increase the economic burden on any operator or increase the scope of this AD.

Related Service Information Under 1 CFR Part 51

We reviewed Boeing Special Attention Service Bulletin 737-53-1083, Revision 5, dated July 22, 2014. The service information describes procedures for inspection of the forward entry doorway and airstairs doorway, modification, and repair. This service information is reasonably available; see ADDRESSES for ways to access this service information.

Costs of Compliance

We estimate that this AD affects 132 airplanes of U.S. registry.

We estimate the following costs to comply with this AD:

Estimated Costs
Action | Labor cost | Parts cost | Cost per product | Cost on U.S. operators
Inspection (Groups 1 through 4 airplanes). ¹ | 9 work-hours × $85 per hour = $765 per inspection cycle | $0 | $765 per inspection cycle | $100,980 per inspection cycle.
¹ We have received no definitive data that would enable us to provide cost estimates for the inspection of Group 5 airplanes.

Optional Costs
Action | Labor cost | Parts cost | Cost per product
Preventive modification | Up to 2 work-hours × $85 per hour = $170 | Up to $3,927 | Up to $4,097.

We estimate the following costs to do any necessary repair that would be required based on the results of the inspections. We have no way of determining the number of aircraft that might need this repair:

On-Condition Costs
Action | Labor cost | Parts cost | Cost per product
Repair | 25 work-hours × $85 per hour = $2,125 | Up to $5,342 | Up to $7,467.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-06-07 The Boeing Company: Amendment 39-18125; Docket No. FAA-2014-0284; Directorate Identifier 2014-NM-011-AD.

(a) Effective Date

This AD is effective May 4, 2015.

(b) Affected ADs

None.

(c) Applicability

(1) This AD applies to The Boeing Company Model 737-100, -200, -200C, -300, -400, and -500 series airplanes, certificated in any category, as identified in Boeing Special Attention Service Bulletin 737-53-1083, Revision 5, dated July 22, 2014.

(2) Installation of Supplemental Type Certificate (STC) ST01219SE (http://rgl.faa.gov/Regulatory_and_Guidance_Library/rgstc.nsf/0/082838ee177dbf62862576a4005cdfc0/$FILE/ST01219SE.pdf) does not affect the ability to accomplish the actions required by this AD. For airplanes on which STC ST01219SE (http://rgl.faa.gov/Regulatory_and_Guidance_Library/rgstc.nsf/0/ebd1cec7b301293e86257cb30045557a/$FILE/ST01219SE.pdf) is installed, therefore, a “change in product” alternative method of compliance (AMOC) approval request is not necessary to comply with the requirements of 14 CFR 39.17.

(d) Subject

Air Transport Association (ATA) of America Code 53, Fuselage.

(e) Unsafe Condition

This AD was prompted by reports of cracking in the lower corners of the forward entry doorway and the upper corners of the airstairs cutout. We are issuing this AD to detect and correct cracks in the lower corners of the forward entry door cutout and the upper corners of the airstairs cutout, which could progress and result in an inability to maintain cabin pressurization.

(f) Compliance

Comply with this AD within the compliance times specified, unless already done.

(g) Inspections and Corrective Actions

(1) For airplane Groups 1 through 4, as identified in Boeing Special Attention Service Bulletin 737-53-1083, Revision 5, dated July 22, 2014: Except as required by paragraph (j)(1) of this AD, at the applicable time specified in table 1, 2, or 3, as applicable, of paragraph 1.E., “Compliance,” of Boeing Special Attention Service Bulletin 737 53-1083, Revision 5, dated July 22, 2014, do the inspections specified in paragraphs (g)(1)(i), (g)(1)(ii), (g)(1)(iii), and (g)(1)(iv) of this AD for cracks at the forward entry doorway and airstairs cutout, and do all applicable corrective actions, in accordance with Parts 1 and 3 of the Accomplishment Instructions of Boeing Special Attention Service Bulletin 737-53-1083, Revision 5, dated July 22, 2014, except as required by paragraph (j)(2) of this AD. Repeat the inspections, thereafter, at the interval specified in table 1, 2, or 3, as applicable, of paragraph 1.E., “Compliance,” of Boeing Special Attention Service Bulletin 737-53-1083, Revision 5, dated July 22, 2014. Do all applicable corrective actions before further flight. Any repair done in accordance with Part 3 of the Accomplishment Instructions of Boeing Special Attention Service Bulletin 737-53-1083, Revision 5, dated July 22, 2014, terminates the repetitive inspections required by paragraph (g)(1) of this AD for the repaired area only.

(i) An external detailed and high frequency eddy current (HFEC) inspection of the skin.

(ii) An internal detailed and HFEC inspection of exposed parts of the bear strap.

(iii) A detailed and HFEC inspection along the edge of the cutout in the skin, skin doubler, and bear strap.

(iv) An external low frequency eddy current inspection (LFEC) of the skin and bearstrap.

(2) For Groups 1 and 2 airplanes that have been repaired using any of the service information identified in paragraph (g)(2)(i), (g)(2)(ii), or (g)(2)(iii) of this AD, the inspections required by paragraph (g)(1) of this AD are not required for the repaired area.

(i) Boeing Service Bulletin 737-53-1083, Revision 1, dated October 25, 1985.

(ii) Boeing Service Bulletin 737-53-1083, Revision 2, dated March 25, 1988.

(iii) Boeing Service Bulletin 737-53-1083, Revision 3, dated December 7, 1989.

(3) For Groups 3 and 4 airplanes, as identified in Boeing Special Attention Service Bulletin 737-53-1083, Revision 5, dated July 22, 2014: Accomplishment of a repair specified in Part 3, “Permanent Repair,” of Paragraph 3.B., “Work Instructions,” of the Accomplishment Instructions of Boeing Special Attention Service Bulletin 737-53-1083, Revision 5, dated July 22, 2014, except as required by paragraph (j)(2) of this AD, terminates the inspections required by paragraph (g)(1) of this AD for the repaired area(s) only.

(4) For Group 5 airplanes, as identified in Boeing Special Attention Service Bulletin 737-53-1083, Revision 5, dated July 22, 2014: Within 120 days after the effective date of this AD, inspect the forward entry door cutout and airstairs cutout for cracks, and repair any crack, using a method approved in accordance with the procedures specified in paragraph (l) of this AD.

(h) Optional Preventive Modification

For Groups 1 and 2, Configurations 5 and 6 airplanes; and Groups 3 and 4 airplanes; as identified in Boeing Special Attention Service Bulletin 737-53-1083, Revision 5, dated July 22, 2014: Except as required by paragraph (j)(2) of this AD, accomplishment of the preventive modification in accordance with Part 2 of the Accomplishment Instructions of Boeing Special Attention Service Bulletin 737-53-1083, Revision 5, dated July 22, 2014, terminates the inspections required by paragraph (g)(1) of this AD.

(i) Post-Modification and Post-Repair Repetitive Inspections

The post-modification and post-repair repetitive inspections specified in table 4 of paragraph 1.E., “Compliance,” of Boeing Special Attention Service Bulletin 737-53-1083, Revision 5, dated July 22, 2014, are not required by this AD.

Note 1 to paragraph (i) of this AD: The inspections specified in table 4 of paragraph 1.E., “Compliance,” of Boeing Special Attention Service Bulletin 737-53-1083, Revision 5, dated July 22, 2014, may be used in support of compliance with Section 121.1109(c)(2) or 129.109(b)(2) of the Federal Aviation Regulations (14 CFR 121.1109(c)(2) or 14 CFR 129.109(b)(2)). The corresponding actions specified in the Accomplishment Instructions of Boeing Special Attention Service Bulletin 737-53-1083, Revision 5, dated July 22, 2014, are not required by this AD.

(j) Exceptions to Service Information Specifications

(1) Where Boeing Special Attention Service Bulletin 737-53-1083, Revision 5, dated July 22, 2014, specifies a compliance time “after the Revision 4 date of this service bulletin,” this AD requires compliance within the specified compliance time after the effective date of this AD.

(2) Where Boeing Special Attention Service Bulletin 737-53-1083, Revision 5, dated July 22, 2014, specifies to contact Boeing for repair instructions, this AD requires repair before further flight using a method approved in accordance with the procedures specified in paragraph (l) of this AD.

(k) Credit for Previous Actions

This paragraph provides credit for actions specified in paragraphs (g) and (h) of this AD, if those actions were performed before the effective date of this AD using Boeing Special Attention Service Bulletin 737-53-1083, Revision 4, dated December 18, 2013, which is not incorporated by reference in this AD.

(l) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-LAACO-AMOC-REQUESTS@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane, and the approval must specifically refer to this AD.

(m) Related Information

(1) For more information about this AD, contact Nenita Odesa, Aerospace Engineer, Airframe Branch, ANM-120L, FAA, Los Angeles Aircraft Certification Office, 3960 Paramount Boulevard, Lakewood, CA 90712-4137; phone: 562-627-5234; fax: 562-627-5210; email: nenita.odesa@faa.gov.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 737-53-1083, Revision 5, dated July 22, 2014.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 13, 2015.
Jeffrey E. Duven,
Manager, Transport Airplane Directorate, Aircraft Certification Service.

[FR Doc. 2015-06753 Filed 3-27-15; 8:45 am]

BILLING CODE 4910-13-P